DEPARTMENT OF TRANSPORTATION

Coast Guard

33 CFR Part 117

[CGD01-01-225]

Drawbridge Operation Regulations: Cheesequake Creek, NJ.

AGENCY: Coast Guard, DOT.

ACTION: Notice of temporary deviation from regulations.

SUMMARY: The Commander, First Coast Guard District, has issued a temporary deviation from the drawbridge operation regulations for the New Jersey Transit railroad bridge, mile 0.2, across the Cheesequake Creek in New Jersey. This temporary deviation will allow the bridge to remain in the closed position from 7 a.m. February 18, 2002 through 6 p.m. March 2, 2002. This temporary deviation is necessary to facilitate necessary repairs at the bridge.

DATES: This deviation is effective from February 18, 2002 through March 2, 2002.

FOR FURTHER INFORMATION CONTACT: Joseph Arca, Project Officer, First Coast Guard District, at (212) 668-7165.

SUPPLEMENTARY INFORMATION: The New Jersey Transit railroad bridge has a vertical clearance in the closed position of 3 feet at mean high water and 8 feet at mean low water. The bridge owner, New Jersey Transit, requested a temporary deviation from the drawbridge operating regulations to facilitate necessary electric drive and brake system maintenance at the bridge. The nature of these repairs will require the bridge to be closed to navigation during the implementation of this work.

The marine operators that normally use this waterway were contacted regarding this temporary deviation and no objections were received. This deviation to the operating regulations will allow the bridge to remain in the closed position from 7 a.m. on February 18, 2002 through 6 p.m. on March 2, 2002.

This deviation from the operating regulations is authorized under 33 CFR 117.35, and will be performed with all due speed in order to return the bridge to normal operation as soon as possible.

Dated: January 17, 2002.
G.N. Naccara,
Rear Admiral, Coast Guard, Commander First Coast Guard District.

[FR Doc. 02-2637 Filed 2-1-02; 8:45 am]

BILLING CODE 4910-15-U